DEPARTMENT OF THE INTERIOR

Bureau of Land Management

[LLCON03000 L16100000.DR0000 15x]

Notice of Availability of the Record of Decision for the Grand Junction Field Office Approved Resource Management Plan/Final Environmental Impact Statement, Colorado

AGENCY: Bureau of Land Management, Interior.

ACTION: Notice of availability.

SUMMARY: The Bureau of Land Management (BLM) announces the availability of the Record of Decision (ROD) for the Approved Resource Management Plan (RMP) for the Grand Junction Field Office (GJFO) located in Mesa, Garfield, Montrose, and Rio Blanco counties, Colorado. The Colorado State Director signed the ROD on August 24, 2015, which constitutes the final decision of the BLM and makes the Approved RMP effective immediately.

ADDRESSES: Copies of the ROD and Approved RMP are available upon request from the Field Manager, GJFO, BLM, 2815 H Road, Grand Junction, CO 81506 or via the Internet at http://www.blm.gov/co/st/en/fo/gjfo/rmp/rmp.html under the “RMP Documents” link. Copies of the ROD and Approved RMP are available for public inspection at the GJFO (see address above) and the Mesa County libraries in Grand Junction, Collbran, De Beque, Fruita and Gateway, Colorado.

FOR FURTHER INFORMATION CONTACT: Christina Stark, Planning and Environmental Coordinator; telephone 970-244-3027; GJFO (see address above); email cstark@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The GJFO has worked cooperatively with the public, interest groups, stakeholders, cooperating agencies, Native American tribes, the Northwest Colorado Resource Advisory Council, the Environmental Protection Agency, U.S. Forest Service, U.S. Fish and Wildlife Service, and neighboring BLM offices for the past seven years developing the approved RMP. The result is an Approved RMP that seeks to provide a balance between the protection, restoration and enhancement of natural and cultural values, while allowing resource use and development in existing or reasonable locations. Goals and objectives focus on environmental, economic and social outcomes achieved by strategically addressing demands across the landscape. Management direction is broad to accommodate a variety of values and uses. Management decisions outlined in the Approved RMP apply only to BLM-managed surface lands (approximately 1,061,400 acres) and BLM-managed Federal mineral estate (approximately 1,231,300 acres) that lies beneath BLM-managed surface lands, and lands managed by other Federal, State, and private owners, including National Forest System lands.

The Approved RMP will replace the 1987 Grand Junction Resource Area RMP. The Approved RMP outlines goals, objectives, management actions and allowable uses for resources and land uses including, but not limited to: Air, soil, water, upland and riparian vegetation, fish and wildlife, cultural and paleontological resources, visual resources, recreation, livestock grazing, energy development, minerals, forestry and realty.

The BLM initiated scoping for the RMP revision in 2008 and collected information and public input via public meetings in order to develop the Draft RMP/Environmental Impact Statement (EIS), which was published in December 2012. Based on public and agency comments, the BLM developed the Proposed RMP by combining various elements of all the alternatives considered in the Draft RMP/EIS.

The BLM published the Proposed RMP/Final EIS on April 10, 2015, and made it available for a 30-day public protest period. During the protest period for the Proposed RMP/Final EIS, the BLM received 19 protests on a variety of issues. Following the protest resolution, the BLM made minor editorial modifications to the Approved RMP to provide further clarification on some of the decisions being made. The BLM dismissed all protests.

The BLM regulations also require a 60-day Governor's Consistency Review period for the Proposed RMP/Final EIS to ensure consistency with officially approved or adopted state or local government plans, policies or programs. The Governor did not identify any inconsistencies as part of this review.

While the Approved RMP contains some conservation management measures for the Greater Sage-Grouse habitat, final decisions on how to manage Greater Sage-Grouse habitat within the GJFO administrative boundaries will be made in the Record of Decision for the Northwest Colorado Greater Sage-Grouse Plan Amendment and EIS. The Northwest Colorado Greater Sage-Grouse Plan Amendment and EIS will fully analyze applicable Greater Sage-Grouse conservation measures, consistent with BLM Instruction Memorandum No. 2012-044. The BLM expects to make a comprehensive set of decisions for managing Greater Sage-Grouse on lands administered by the GJFO in the ROD for the Northwest Colorado Greater Sage-Grouse Plan Amendment. That decision will amend the Approved RMP. In the interim, leasing in Greater Sage-Grouse habitat will continue to be deferred until a final decision has been made on the Northwest Colorado Greater Sage-Grouse Plan Amendment.

The Approved RMP includes some implementation decisions, which are displayed and numbered as implementation decisions in the Approved RMP. Implementation decisions are generally appealable to the Interior Board of Land Appeals under 43 CFR 4.410. For example, the decisions designating routes of travel are implementation decisions and are appealable under 43 CFR part 4. The route decisions are displayed as an attachment to Appendix M of the Approved RMP. Any party adversely affected by the route designations may appeal within 30 days of publication of this Notice of Availability pursuant to 43 CFR, part 4, subpart E. The appeal should state the specific route(s), as identified in Appendix M of the Approved RMP, on which the decision is being appealed. The appeal must be filed with the Grand Junction Field Manager at the address listed above. Please consult the appropriate regulations (43 CFR, part 4, subpart E) for further appeal requirements.

Authority: 40 CFR 1506.6.

Gregory P. Shoop,
BLM Colorado Associate State Director.

[FR Doc. 2015-20706 Filed 8-21-15; 8:45 am]

BILLING CODE 4310-JB-P